DEPARTMENT OF THE INTERIOR

National Park Service

[NPS-PWR-PWRO-17356; PXPD004214G001]

Final Environmental Impact Statement for the Channel Islands National Park General Management Plan/Wilderness Study, Santa Barbara County, California

AGENCY: National Park Service, Interior.

ACTION: Notice of availability.

SUMMARY: The National Park Service (NPS) announce the availability of a Final Environmental Impact Statement (Final EIS) for the Channel Islands National Park General Management Plan/Wilderness Study (GMP/WS). The Final EIS/GMP/WS evaluates the impacts of three alternatives for management of the park over the next 20 to 40 years.

DATES: The NPS will execute a Record of Decision (ROD) no sooner than 30 days following publication in the Federal Register of the Environmental Protection Agency's notice of the filing and release of the Final EIS/GMP/WS.

ADDRESSES: A limited number of printed copies of the Final EIS/GMP/Wilderness Study may be picked up in-person or by making a request in writing to Channel Islands National Park, 1901 Spinnaker Dr., Ventura, CA 93001. The document is also available on the internet at the NPS Planning, Environment, and Public Comment Web site http://parkplanning.nps.gov/chis.

FOR FURTHER INFORMATION CONTACT: Mr. Russell Galipeau, Superintendent, Channel Islands National Park, 1901 Spinnaker Dr., Ventura, CA 93001; russell_galipeau@nps.gov; (805) 658-5702.

SUPPLEMENTARY INFORMATION: For a park that includes five remote islands spanning 2,228 square miles of land and sea, the GMP defines a clear direction for resource preservation and visitor experience over the next 20 to 40 years. The GMP provides a framework for proactive decision making, which allows managers to effectively address future opportunities and problems, such as resource, operational, administrative, and visitor use issues facing the park. The GMP serves as the basis for future detailed management documents, such as five-year strategic plans and implementation plans. In addition, the wilderness study component determines if eligible portions of the park should be proposed for wilderness designation.

The Final EIS/GMP/Wilderness Study responds to, and incorporates as appropriate, agency and public comments received on the Draft Plan/Wilderness Study/EIS, which was available for public and agency review and comment during the extended 90-day comment period. Two public meetings were held to gather input on the Draft Plan/Wilderness Study/EIS, one of which also included a public hearing on the wilderness study. One thousand, six hundred and twenty pieces of correspondence were received during the public review period. Agency and public comments and NPS responses are provided in Chapter 5 in the Final EIS/GMP/Wilderness Study.

The Final EIS/GMP/Wilderness Study describes and analyzes three alternatives for Channel Islands National Park. Alternative 1 (No Action Alternative) reflects current management direction and serves as a baseline for comparison with the other alternatives. Existing facilities, resource programs, and visitor opportunities would continue as they are. No areas of the park would be proposed for wilderness designation.

Alternative 2—This alternative emphasizes ecosystem preservation, restoration, and preservation of large expanses in relatively pristine resource conditions. Resource stewardship including ecosystem preservation and restoration, and preservation of natural landscapes, cultural landscapes, archeological resources, and historic structures would continue to be emphasized. Increased recreational opportunities would be provided for visitors to enjoy and appreciate the park. Under Alternative 2, a total of 66,576 acres of the park would be proposed for eventual wilderness designation, primarily on Santa Rosa and Santa Cruz Islands.

Alternative 3 (Preferred Alternative)—This alternative emphasizes resource stewardship and resource preservation; while also placing more attention on expanding education and recreational opportunities and accommodations to provide diverse visitor experiences on the islands. Under Alternative 3, as under Alternative 2, a total of 65,278 acres would be proposed for eventual wilderness designation.

Dated: March 27, 2015.
Patricia L. Neubacher,
Acting Regional Director, Pacific West Region.

[FR Doc. 2015-09107 Filed 4-20-15; 8:45 am]

BILLING CODE 4312-55-P